FEDERAL MARITIME COMMISSION

Sunshine Act Meeting

TIME AND DATE: September 26, 2019; 10:00 a.m.

PLACE: 800 N. Capitol Street NW, First Floor Hearing Room, Washington, DC.

STATUS: Parts of this meeting will be open to the public and will be streamed live at https://bit.ly/2IZBIkY. The rest of the meeting will be closed to the public.

MATTERS TO BE CONSIDERED:

Open Session

1. Briefing by Commissioner Dye on US-Japan Bilateral Meeting

2. Briefing by Commissioner Maffei on Visit to Gulf Ports

3. Implementation of the Frank LoBiondo Authorization Act of 2018

4. Petition of the World Shipping Council for Exemption—P3-18

Closed Session

1. Delegated Authority of the Bureau of Enforcement and Enforcement Procedures

CONTACT PERSON FOR MORE INFORMATION: Rachel Dickon, Secretary, (202) 523-5725.

Rachel Dickon,
Secretary.

[FR Doc. 2019-20668 Filed 9-19-19; 4:15 pm]

BILLING CODE 6731-AA-P